NATIONAL SCIENCE FOUNDATION

Notice of Meeting; Advisory Committee For Polar Programs

In accordance with Federal Advisory Committee Act (Pub. L. 92-463, as amended), the National Science Foundation announces the following meeting:

Name: Advisory Committee for Polar Programs (1130).

Date/Time: August 11, 2005, 4 p.m. to 5 p.m. e.d.t.

Place: National Science Foundation, 4201 Wilson Boulevard, Stafford I, Room 390.

Type of Meeting: Open.

Contact Person: Altie Metcalf, Office of Polar Programs (OPP), National Science Foundation, 4201 Wilson Boulevard, Arlington, VA 22230, (703) 292-8030.

Minuets: May be obtained from the contact person listed above.

Purpose of Meeting: Receive the report prepared by the Subcommittee on USAP Resupply. This meeting will be by teleconference for the Committee members.

Agenda: Introductions; Advisory Committee comments on the draft report; comments from other interested parties; Committee discussion and consideration of the report.

Dated: August 4, 2005.
Suzanne Plimpton,
Management Analyst.

[FR Doc. 05-15774 Filed 8-9-05; 8:45 am]

BILLING CODE 7555-01-M